NUCLEAR REGULATORY COMMISSION

[Docket No. 50-213]

Connecticut Yankee Atomic Power Company; Haddam Neck Plant; Exemption

1.0 Background

Connecticut Yankee Atomic Power Company (CYAPCO, the licensee) is holder of shutdown facility license No. DPR-61, which authorizes activities at the Haddam Neck Plant. The license provides, among other things, that the facility is subject to all rules, regulations, and orders of the U.S. Nuclear Regulatory Commission (NRC).

The facility consists of a former reactor site undergoing decommissioning, and an Interim Spent Fuel Storage Installation (ISFSI) in East Hampton, Connecticut.

2.0 Request/Action

Appendix E to Title 10 of The Code of Federal Regulations specifies Emergency Planning and Preparedness requirements for Part 50 licensees. Section IV, “Content of Emergency Plans,” Subpart F specifies that each licensee shall conduct an exercise of its onsite and offsite emergency plans (EPs) every two years. By letter dated August 28, 1998, NRC exempted the licensee from offsite emergency planning activities, including the offsite exercise requirement. As part of the exemption, the licensee committed to an increased frequency for onsite EP exercises, to once a year. By letter of September 18, 2006, the licensee submitted a revision to the Haddam Neck Plant (HNP) EP for NRC review and approval. Section 1.0 of the EP states that, “This revision of the Emergency Plan is intended for end state conditions where power plant dismantlement and decommissioning have been completed and the ISFSI is the only thing remaining on the site * * * ” NRC will verify proper timing of the execution of the EP in the inspection process. The EP revision reduces the frequency of onsite exercises from every year to every other year. The Office of Federal and State Materials and Environmental Management Programs' review of this proposed change to the HNP EP is described below.

On December 5, 1996, the HNP reactor was permanently shut down. All the spent fuel was transferred to the ISFSI by March 2005. The NRC issued an exemption on August 28, 1998, that granted CYAPCO exemptions from portions of the 10 CFR 50.54(q) EP requirements.

The staff reviewed the revised EP for coping with radiological emergencies at the HNP site including the licensee's 10 CFR 50.54(q) evaluation to verify that the reduction in exercise frequency does not decrease the effectiveness of the plan and that the plan, as changed, continues to meet the standards contained in 10 CFR 50.47(b) and the requirements of Appendix E to 10 CFR Part 50 applicable to the approved Part 50 EP for the long-term defueled condition. The licensee identified that the exercise frequency reduction was a reduction in commitment. The NRC staff evaluation below, concludes the proposed change meets the requirements of § 50.47(b) and Appendix E to Part 50.

Section 8.2.3 of the HNP EP requires that an exercise will be conducted once each calendar year to demonstrate the capability to meet the EP. CYAPCO is proposing to revise the frequency of an exercise of its onsite EP from once per year to every other year. CYAPCO has determined that the proposed change in the frequency of an exercise constitutes a reduction in commitment and thus represents a decrease in effectiveness of the EP. However, the EP continues to meet the standards of 10 CFR 50.47(b) and the requirements of Appendix E to Part 50.

The plant is permanently shutdown and defueled. All spent fuel and greater than Class C waste have been placed in dry storage at the ISFSI, and there is no longer liquid radioactive waste or significant quantities of dry activated waste stored on site. Additionally, in order to ensure adequate emergency response capabilities are maintained during the time between exercises, CYAPCO is adding a requirement to Section 8.2 of the HNP EP as follows:

During the interval between biennial exercises, CYAPCO will conduct drills, including at least one drill involving a combination of some of the principal functional areas of the onsite response capabilities (management, accident assessment, protective and corrective actions).

The proposed change is consistent with the 10 CFR 50, Appendix E, (IV)(F)(2)(b) requirement to conduct an onsite EP exercise every two years.

3.0 Discussion

Pursuant to 10 CFR 50.12, the NRC may, upon application by any interested person or upon its own initiative, grant exemptions from the requirements of 10 CFR Part 50 when: (1) The exemptions are authorized by law, will not present an undue risk to public health or safety, and are consistent with the common defense and security; and (2) when special circumstances are present. The licensee's request for approval was submitted in conjunction with a proposed revision to the HNP onsite EP, and is effective when the site has only an ISFSI remaining onsite. NRC staff considers that requiring the licensee to meet a self-imposed standard above regulatory requirements is not necessary to achieve the underlying purpose of the rule. Therefore, special circumstances do exist for the granting of this exemption, as specified in 10 CFR 50.12.

Authorized by Law

This exemption would exempt CYAPCO from requirements in 10 CFR Part 50, Appendix E, as previously exempted on August 28, 1998, thus allowing onsite EP exercises to be conducted every two years vice annually. As stated above, 10 CFR 50.12 allows the NRC to grant exemptions from the requirements of 10 CFR Part 50. The NRC staff has determined that granting of this exemption will not result in a violation of the Atomic Energy Act of 1954, as amended, or the Commission's regulations. Therefore, the exemption is authorized by law.

No Undue Risk to Public Health and Safety

This exemption only affects the periodicity of onsite EP exercises. No new accident precursors are created by this exemption; accordingly, the probability of postulated accidents are not increased. Therefore, there is no undue risk to public health and safety as a result of the exemption.

Consistent With Common Defense and Security

This exemption, as set forth above, affects the periodicity of onsite EP exercises. The revised periodicity is consistent with the Appendix E regulatory requirements for onsite EP exercises, and with 10 CFR 50.47(b)(14), which states, in part, “Periodic exercises are (will be) conducted to evaluate major portions of emergency response capabilities * * *. ” The licensee will continue to conduct other Emergency Planning drills during the time intervals between exercises in order to maintain its emergency response capabilities. Therefore, the common defense and security is not impacted by this exemption.

Special Circumstances

Special circumstances, in accordance with 10 CFR 50.12(a)(2)(ii), are present whenever the application of the regulation in the particular circumstances “would not serve the underlying purpose of the rule or is not necessary to achieve the underlying purpose of the rule.” The underlying purpose of Appendix E is to ensure that licensees' EPs are sufficient for use in attaining an acceptable state of emergency preparedness. The NRC staff has determined that the intent of this rule is not compromised by the licensee's proposed action because onsite exercises will be required every two years, which is consistent with Appendix E requirements. Therefore, since the underlying purpose of Appendix E is achieved, the special circumstances required by 10 CFR 50.12 (a)(2) for the granting of an exemption from Appendix E exist.

Environmental Evaluation

This exemption constitutes a regulatory action approving a change in operations that would not cause any increase in the amounts of any effluents that may be released offsite, increase any individual or cumulative occupational radiation exposure, has no construction impact, and has no significant increase in potential for, or consequences from, a radiological accident. Therefore, the categorical exclusion defined in 10 CFR 51.22(c)(11) is applicable, and no further environmental evaluation is needed.

4. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are: Licensee request of September 18, 2006, ML062690475. If you do not have access to ADAMS or if there are problems in accessing the documents located in ADAMS, contact the NRC Public Document Room (PDR) Reference staff at 1-800-397-4209, 301-415-4737, or by e-mail to pdr@nrc.gov. The NRC exemption dated August 28, 1998, is available in the PDR.

These documents may also be viewed electronically on the public computers located at the NRC PDR, O 1 F21, One White Flint North, 11555 Rockville Pike, Rockville, MD 20852. The PDR reproduction contractor will copy documents for a fee.

5. Conclusion

Accordingly, the Commission has determined that, pursuant to 10 CFR 50.12, the exemption is authorized by law, will not present an undue risk to public health and safety, and is consistent with the common defense and security. Also, special circumstances are present. Therefore, the Commission hereby grants CYAPCO an exemption to the licensee's previous exemptions from the requirements of 10 CFR 50.54(q), as granted by NRC on August 28, 1998 (ML980903182); which requires EPs to meet 10 CFR 50.47(b) and Appendix E to Part 50. Specifically, this exemption allows onsite EP exercises to be conducted once every two years, in lieu of the annual requirement currently in place.

This exemption is effective upon issuance.

Dated at Rockville, Maryland, this 16th day of March, 2007.
For the U.S. Nuclear Regulatory Commission.
Larry W. Camper,
Director, Division of Waste Management and Environmental Protection, Office of Federal and State Materials and Environmental Management Programs.

[FR Doc. E7-5248 Filed 3-21-07; 8:45 am]

BILLING CODE 7590-01-P